DEPARTMENT OF THE INTERIOR

Bureau of Land Management

[AZAR 05427]

Public Land Order No. 7598; Partial Revocation of Public Land Order No. 1229; Arizona

AGENCY: Bureau of Land Management, Interior.

ACTION: Public Land Order.

SUMMARY: This order partially revokes a public land order insofar as it affects approximately 284 acres of National Forest System lands withdrawn for the Deadman Lookout Site, Knob Hill Administrative Site, and T-6 Spring Recreation Area. This order opens the National Forest System lands to mining.

EFFECTIVE DATE: April 14, 2004.

FOR FURTHER INFORMATION CONTACT: Cliff Yardley, BLM Arizona State Office, 222 North Central Avenue, Phoenix, Arizona 85004-2203, 602-417-9437.

SUPPLEMENTARY INFORMATION: The Forest Service has determined that a withdrawal is no longer needed on the lands described in Paragraph 1 and has requested the partial revocation. The lands withdrawn for the Knob Hill Administrative Site have been conveyed out of Federal ownership and this is a record-clearing action only for those lands.

Order

By virtue of the authority vested in the Secretary of the Interior by Section 204 of the Federal Land Policy and Management Act of 1976, 43 U.S.C. 1714 (2000), it is ordered as follows:

1. Public Land Order No. 1229, which withdrew National Forest System lands for campgrounds, recreation areas, and other public purposes, is hereby revoked insofar as it affects the following described lands:

Coconino National Forest

Gila and Salt River Meridian

(a) Deadman Lookout Site

T. 24 N., R. 7 E.,

Sec. 26, S½N½SW¼NE¼, S½SW¼NE¼, and N½N½NW¼SE¼.

T-6 Spring Recreation Area

T. 16 N., R. 7 E.,

Sec. 25, S½SE¼ and NE¼SE¼.

(b) Knob Hill Administrative Site

T. 21 N., R. 7 E.,

Sec. 15, N½SE¼SE¼NW¼NW¼, NE¼SE¼NW¼NW¼, N½NE¼, and NE¼NW¼.

The areas described aggregate approximately 284 acres in Coconino and Yavapai Counties.

2. At 10 a.m. on April 14, 2004, the lands described in Paragraph 1(a) will be opened to location and entry under the United States mining laws, subject to valid existing rights, the provisions of existing withdrawals, other segregations of record, and the requirements of applicable law. Appropriation of these lands under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: February 24, 2004.
Rebecca W. Watson,
Assistant Secretary—Land and Minerals Management.

[FR Doc. 04-5749 Filed 3-12-04; 8:45 am]

BILLING CODE 3410-11-P